DEPARTMENT OF COMMERCE

National Oceanic and Atmospheric Administration

50 CFR Part 660

[Docket No. 020402077-2077-01; I.D. 052802F]

Fisheries Off West Coast States and in the Western Pacific; Pacific Coast Groundfish Fishery; Whiting Closure for the Mothership Sector

AGENCY: National Marine Fisheries Service (NMFS), National Oceanic and Atmospheric Administration (NOAA), Commerce.

ACTION: Fishing restrictions; request for comments.

SUMMARY: NMFS announces closure of the 2002 mothership fishery for Pacific whiting (whiting) at 0500 local time (l.t.) June 6, 2002, because the allocation for the mothership sector is projected to be reached by that time. This action is intended to keep the harvest of whiting at the 2002 allocation levels.

DATES: Effective from 0500 l.t. June 6, 2002, until the start of the 2003 primary season for the mothership sector, unless modified, superseded or rescinded; such action will be published in the Federal Register. Comments will be accepted through June 25, 2002.

ADDRESSES: Submit comments to D. Robert Lohn, Administrator, Northwest Region (Regional Administrator), NMFS, 7600 Sand Point Way NE., Seattle, WA 98115-0070; or Rodney McInnis, Acting Regional Administrator, Southwest Region, NMFS, 501 West Ocean Blvd., Suite 4200, Long Beach, CA 90802-4213.

FOR FURTHER INFORMATION CONTACT: Becky Renko or Carrie Nordeen at 206-526-6140.

SUPPLEMENTARY INFORMATION: This action is authorized by regulations implementing the Pacific Coast Groundfish Fishery Management Plan (FMP), which governs the groundfish fishery off Washington, Oregon, and California. On April 15, 2002 (67 FR 18117), the levels of allowable biological catch (ABC), the optimum yield (OY) and the commercial OY (the OY minus the tribal allocation) for U.S. harvests of whiting were announced in the Federal Register. For 2002 the whiting OY is 129,600 metric tons (mt) and the commercial OY is 106,920 mt. Regulations at 50 CFR 660.323(a)(4) divide the commercial OY into separate allocations for the catcher/processor, mothership, and shore-based sectors of the whiting fishery. The 2002 allocations, which are based on the 2002 commercial OY, are 36,353 mt (34 percent) for the catcher/processor sector, 25,661 mt (24 percent) for the mothership sector, and 44,906 mt (42 percent) for the shoreside sector. When each sector's allocation is reached, the primary season for that sector is ended. The mothership sector is composed of motherships, and catcher vessels that harvest whiting for delivery to motherships. Motherships are vessels that process, but do not harvest, whiting. The regulations at 50 CFR 660.323 (a)(3)(i) describe the primary season for vessels delivering to motherships as the period(s) when at-sea processing is allowed and the fishery is open for the mothership sector.

NMFS Action

This action announces achievement of the allocation for the mothership sector only. The best available information on June 4, 2002, indicated that the 25,661 mt mothership allocation would be reached by 0500 hours, June 6, 2002, at which time the primary season for the mothership sector ends and further at-sea processing and receipt of whiting by a mothership, or taking and retaining, possessing, or landing of whiting by a catcher boat in the mothership sector, are prohibited. For the reasons stated above, and in accordance with the regulations at 50 CFR 660.323(a)(4)(iii)(B), NMFS herein announces that effective 0500 hours June 6, 2002—(1) further receiving or at-sea processing of whiting by a mothership is prohibited. No additional unprocessed whiting may be brought on board after at-sea processing is prohibited, but a mothership may continue to process whiting that was on board before at-sea processing was prohibited, and (2) whiting may not be taken and retained, possessed, or landed by a catcher vessel participating in the mothership sector.

Classification

This action is authorized by the regulations implementing the FMP. The determination to take this action is based on the most recent data available. The aggregate data upon which the determination is based are available for public inspection at the office of the Regional Administrator (see ADDRESSES) during business hours. This action is taken under the authority of 50 CFR 660.323(a)(4)(iii)(B) and is exempt from review under Executive Order 12866.

Authority: 16 U.S.C. 1801 et seq.

Dated: June 5, 2002.
John H. Dunnigan,
Director, Office of Sustainable Fisheries, National Marine Fisheries Service.

[FR Doc. 02-14539 Filed 6-5-02; 3:59 pm]

BILLING CODE 3510-22-S